DEPARTMENT OF THE INTERIOR

Fish and Wildlife Service

Izembek, Togiak, Tetlin, and Kanuti National Wildlife Refuges, Alaska

AGENCY: Fish and Wildlife Service, Interior.

ACTION: Revised notice of intent to revise comprehensive conservation plans and to prepare environmental assessments; request for comments.

SUMMARY: With this notice, we, the Fish and Wildlife Service, revise our previously published notices of intent to revise comprehensive conservation plans (CCPs) for Togiak, Izembek, Kanuti, and Tetlin National Wildlife Refuges, all in Alaska. Our previous notices stated our intent to document decisions in these CCP revisions with environmental impact statements. However, we now believe that an environmental assessment is the appropriate level of National Environmental Policy Act (NEPA) compliance. We seek public comments.

ADDRESSES: Address comments, questions, and requests to Ken Rice, Planning Team Leader, by mail at U.S. Fish and Wildlife Service, 1011 East Tudor Rd., MS-231, Anchorage, Alaska 99503, or by e-mail to ken_w_rice @fws.gov.

FOR FURTHER INFORMATION, CONTACT: Ken Rice, Planning Team Leader, (907) 786-3502; or e-mail: ken_w_rice@fws.gov. Additional information concerning the comprehensive conservation planning process can be found at http://www.r7.fws.gov/nwr/planning/plans.htm.

SUPPLEMENTARY INFORMATION: This notice revises the NOIs previously published by the U.S. Fish and Wildlife Service (Service) for the Togiak National Wildlife Refuge (May 13, 1999, 64 FR 25899), Izembek National Wildlife Refuge (November 26, 2003, 68 FR 66474), Kanuti National Wildlife Refuge (November 26, 2003, 68 FR 66475), and Tetlin National Wildlife Refuge (December 7, 2004, 69 FR 70704), all in Alaska. We furnish this notice in compliance with the National Wildlife Refuge System Administration Act of 1966, as amended by the National Wildlife Refuge System Improvement Act of 1997 (Administration Act) (16 U.S.C. 668dd-667ee), and with Service planning policy. Previous notices stated our intent to document decisions in these plan revisions with EISs. Based on input from the public, from other agencies, and from within the Service, and the level of complexity and controversy anticipated, we believe that an EA is the appropriate level of NEPA compliance. Should an EA show that potential impacts of actions in these plans are significant, we will produce an EIS.

By Federal law, all lands within the National Wildlife Refuge System are to be managed in accordance with an approved CCP. Section 304(g) of the Alaska National Interest Lands Conservation Act (PL 96-487, 94 Stat. 2371) directs how CCPs in Alaska are prepared. The Plans guide management decisions and identify refuge goals, long-range objectives, and strategies for achieving refuge purposes. CCPs were developed for each of these Refuges in the 1980's. EISs were prepared in conjunction with those plans. The original notices of intent for the Izembek, Togiak, Tetlin, Kenai, and Kanuti National Wildlife Refuges identified our intent to revise the CCPs developed in the 1980s, and to prepare EISs in conjunction with the revised plans.

The Council on Environmental Quality regulations implementing NEPA direct Federal agencies to prepare EAs under procedures adopted by individual agencies (40 CFR 1501.3). The Fish and Wildlife Service planning policy (602 FW 1-3) requires that CCPs be prepared with an EIS or EA. At the time we prepared the NOIs for the revisions of these plans, we anticipated that new decisions may have significant impacts on the human environment and therefore an EIS was the appropriate NEPA document. We have conducted scoping activities, both internally and with the public, on all of these CCP revisions. Scoping information, together with preliminary alternative development, has not revealed any potentially significant impacts. Revisions to these plans center on the development of vision statements and management goals and objectives, as well as updating policy information and compatibility determinations. Therefore we will prepare EAs for these CCP revisions in accordance with procedures for implementing the NEPA. If at any stage in developing the revised CCPs and associated EAs, we find that new information comes to light that would indicate the need to prepare an EIS we will publish a new NOI and allow the public additional opportunity to provide comment.

Dated: June 30, 2006.
Gary Edwards,
Acting Regional Director, U.S. Fish and Wildlife Service, Anchorage, Alaska.

[FR Doc. E6-11801 Filed 7-24-06; 8:45 am]

BILLING CODE 4310-55-P